ENVIRONMENTAL PROTECTION AGENCY

40 CFR Part 721

[EPA-HQ-OPPT-2009-0767; FRL-8888-7]

RIN 2070-AJ52

Glymes; Proposed Significant New Use; Extension of Comment Period

AGENCY: Environmental Protection Agency (EPA).

ACTION: Proposed rule; extension of comment period.

SUMMARY: EPA issued a proposed rule in the Federal Register of July 12, 2011, concerning a proposed significant new use rule (SNUR) under section 5(a)(2) of the Toxic Substances Control Act (TSCA) for 14 glymes. Since publication, EPA has received a request for additional time to submit comments. This document extends the comment period for 30 days, from September 12, 2011 to October 12, 2011.

DATES: Comments, identified by docket identification (ID) number EPA-HQ-OPPT-2009-0767, must be received on or before October 12, 2011.

ADDRESSES: Follow the detailed instructions as provided under ADDRESSES in the Federal Register document of July 12, 2011.

FOR FURTHER INFORMATION CONTACT: For technical information contact: Amy Breedlove, Chemical Control Division (7405M), Office of Pollution Prevention and Toxics, Environmental Protection Agency, 1200 Pennsylvania Ave., NW., Washington, DC 20460-0001; telephone number: (202) 564-9823; e-mail address: breedlove.amy@epa.gov.

For general information contact: The TSCA-Hotline, ABVI-Goodwill, 422 South Clinton Ave., Rochester, NY 14620; telephone number: (202) 554-1404; e-mail address: TSCA-Hotline@epa.gov.

SUPPLEMENTARY INFORMATION:

This document extends the public comment period established in the Federal Register of July 12, 2011 (76 FR 40850) (FRL-8877-8). In that document, EPA proposed a SNUR for 14 glymes, designated proposed significant new uses for the 14 glymes, and asked for public comment on several topics. EPA requested comment on whether any of the chemical substances included in the identified glyme category are sufficiently dissimilar from the rest such that they should be removed from the category, or whether any additional chemical substances are sufficiently similar such that they should be added to the category. Comments were also requested on whether any of the additional unconfirmed uses listed in the proposed rule are actual ongoing uses in a consumer product, and whether there are any other ongoing uses in a consumer product of the other chemicals listed in the SNUR. EPA is hereby extending the comment period, which was set to end on September 12, 2011, to October 12, 2011.

To submit comments, or access the docket, please follow the detailed instructions as provided under ADDRESSES in the July 12, 2011 Federal Register document. If you have questions, consult the technical person listed under FOR FURTHER INFORMATION CONTACT.

List of Subjects in 40 CFR Part 721

Environmental protection, Chemicals, Hazardous substances, Reporting and recordkeeping requirements.

Dated: September 1, 2011.
Maria J. Doa,
Director, Chemical Control Division, Office of Pollution Prevention and Toxics.

[FR Doc. 2011-22988 Filed 9-7-11; 8:45 am]

BILLING CODE 6560-50-P